DEPARTMENT OF THE INTERIOR

Fish and Wildlife Service

Notice of Receipt of Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We, the U.S. Fish and Wildlife Service, solicit review and comment from local, State, and Federal agencies, and the public on the following permit requests.

DATES: Comments on these permit applications must be received on or before April 3, 2003, to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-065377

Applicant: San Andreas Land Conservancy, Santa Cruz, California. The applicant requests a permit to take (harass, capture, translocate, and release) the San Francisco garter snake (Thamnophis sirtalis tetrataenia) in conjunction with bullfrog eradication efforts in Alameda, San Mateo, and Santa Clara Counties, California for the purpose of enhancing its survival.

Permit No. TE-048470

Applicant: Sonoma County, Santa Rosa, California. The permittee requests an amendment to take (harass by survey, capture, and release) the Sonoma distinct population segment of the California tiger salamander (Ambystoma californiense) in conjunction with demographic research in Sonoma County, California for the purpose of enhancing its survival.

Permit No. TE-832262

Applicant: Department of Parks and Recreation, San Luis Obispo, California. The permittee requests an amendment to take (harass by survey) the Morro shoulderband (= banded dune) snail (Helminthoglypta walkeriana) in conjunction with presence or absence surveys and ecological research throughout the species range in California for the purpose of enhancing its survival.

Permit No. TE-066621

Applicant: Martin Ruane, Ventura, California.

The applicant request a permit to take (locate nests and harass by survey) the California least tern (Sterna antillarum browni) in conjunction with monitoring activities in Ventura County, California for the purpose of enhancing its survival.

Permit No. TE-020557

Applicant: Malik Tamimi, San Diego, California.

The permittee requests an amendment to take (harass by survey, collect, and sacrifice) the San Diego fairy shrimp (Branchinecta sandiegonensis) and the Riverside fairy shrimp (Streptocephalus wootoni) in conjunction with surveys throughout the range of each species in California for the purpose of enhancing their survival.

Permit No. TE-837307

Applicant: Holly Cheong, San Diego, California.

The permittee requests an amendment to take (harass by survey, collect, and sacrifice) the San Diego fairy shrimp (Branchinecta sandiegonensis) and the Riverside fairy shrimp (Streptocephalus wootoni) in conjunction with surveys throughout the range of each species in California for the purpose of enhancing their survival.

Permit No. TE-799568

Applicant: Dana Kamada, San Clemente, California.

The permittee requests an amendment to take (capture, handle, and band) the least Bell's vireo (Vireo bellii pusillus), and to take (harass by survey, monitor nests, capture, handle, and band) the southwestern willow flycatcher (Empidonax traillii extimus) in conjunction with surveys throughout the range of each species in California for the purpose of enhancing their survival.

Permit No. TE-056557

Applicant: Bureau of Reclamation, Burley, Idaho.

The applicant request a permit to take (capture, collect, and sacrifice) the Utah valvata snail (Valvata utahensis) in conjunction with demographic, hydrologic, and genetic research throughout the range of the species for the purpose of enhancing its survival.

Permit No. TE-047805

Applicant: National Audubon Society, Honolulu, Hawaii.

The permittee requests an amendment to take (capture) short-tailed albatross (Phoebastria nigripes) in conjunction with research on various fishing methods, including underwater chutes, side-setting, and blue-dyed squid bait, aimed at reducing capture of the short-tailed albatross on Hawaiian tuna longline vessels in Federal waters off the State of Hawaii for the purpose of enhancing its survival.

Permit No. TE-067064

Applicant: Lindsay Messett, Lakewood, California.

The applicant requests a permit to take (survey by pursuit) the Quino checkerspot butterfly (Euphydryas editha quino) in conjunction with surveys throughout the range of the species in California for the purpose of enhancing its survival.

Permit No. TE-067159

Applicant: Kristen Reifel, San Diego, California.

The applicant requests a permit to take (survey by pursuit) the Quino checkerspot butterfly (Euphydryas editha quino) in conjunction with surveys throughout the range of the species in California for the purpose of enhancing its survival.

We solicit public review and comment on each of these recovery permit applications.

Dated: February 3, 2003.
Rowan W. Gould,
Deputy Regional Director, Region 1, U.S. Fish and Wildlife Service.

[FR Doc. 03-4986 Filed 3-3-03; 8:45 am]

BILLING CODE 4310-55-P